DEPARTMENT OF COMMERCE

National Oceanic and Atmospheric Administration

[RTID 0648-XE909]

Spring Meeting of the Advisory Committee to the U.S. Section to the International Commission for the Conservation of Atlantic Tunas

AGENCY: National Marine Fisheries Service (NMFS), National Oceanic and Atmospheric Administration (NOAA), Commerce.

ACTION: Notice of the Advisory Committee 2025 spring meeting.

SUMMARY: The Advisory Committee to the U.S. Section to the International Commission for the Conservation of Atlantic Tunas (ICCAT) announces its annual spring meeting, to be held in a hybrid format June 2-3, 2025.

DATES: The open sessions of the Committee meeting will be held on June 2, 2025, 8:30 a.m. to 2:30 p.m., and June 3, 2025, 10:30 a.m. to 3:15 p.m. Closed sessions will be held on June 2, 2025, 2:30 p.m. to 4:30 p.m., and on June 3, 2025, 9:30 a.m. to 10:30 a.m. Register using the link in the ADDRESSES section by May 26, 2025, at 5 p.m. All times are Eastern Daylight Savings time.

ADDRESSES: For those Advisory Committee members or Technical Advisors choosing to attend in person, the in-person component will be held at the Herbert C. Hoover Department of Commerce Building, 1401 Constitution Ave. NW, Washington, DC 20230. Members of the public can join virtually. Please register to attend at: https://forms.gle/ui1xCMzkixNXSZEN6. Instructions will be emailed to registered meeting participants before the meetings occur.

FOR FURTHER INFORMATION CONTACT: Bryan Keller, Office of International Affairs, Trade, and Commerce, (301) 427-7725 or at bryan.keller@noaa.gov.

SUPPLEMENTARY INFORMATION: Pursuant to 16 U.S.C. 971b, the Advisory Committee to the U.S. Section to ICCAT will meet in open session to receive and discuss information on the outcomes of ICCAT's 2024 annual meeting and the U.S. implementation of ICCAT decisions; ICCAT intersessional meetings in 2025; relevant NMFS research and monitoring activities; and other matters relating to the international management of ICCAT species. The public will have virtual access to the open sessions of the meeting, but there will be no opportunity for public comment during the meeting. An agenda is available from the Committee's Executive Secretary upon request (see FOR FURTHER INFORMATION CONTACT section). The Committee will meet in its Species Working Groups in closed session in the afternoon of June 2, 2025, and in the morning of June 3, 2025.

Special Accommodations

The meeting is accessible to people with disabilities. Requests for auxiliary aids should be directed to Bryan Keller (see FOR FURTHER INFORMATION CONTACT section) at least 5 days prior to the meeting date.

Authority: 16 U.S.C. 971 et seq.; 16 U.S.C. 1801 et seq.

Dated: May 7, 2025.
Alexa Cole,
Director, Office of International Affairs, Trade, and Commerce, National Marine Fisheries Service.

[FR Doc. 2025-08421 Filed 5-13-25; 8:45 am]

BILLING CODE 3510-22-P